ENVIRONMENTAL PROTECTION AGENCY

[ER-FRL-6640-3]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in the Federal Register dated April 1, 2003 (68 FR 16511).

Draft EISs

ERP No. D-COE-E32180-FL Rating EC1, Miami Harbor Navigation Improvements Project to Study the Feasibility of Widening and Deepening Portions of the Port, Miami-Dade County, FL.

Summary: EPA expressed some environmental concerns about the unavoidable project impacts to sensitive biological resources, but concluded the proposed mitigation plan should adequately address these losses in the long-term.

ERP No. D-FHW-H40178-MO Rating EC2, I-64/US 40 Corridor, Reconstruction of the existing I-64/US 40 Facility with New Interchange Configurations and Roadway, Funding, City of St.Louis, St. Louis County, MO.

Summary: EPA has environmental concerns regarding the proposed project on the basis of the degree of information provided to ensure compliance with section 4(f). EPA requests that consultation with the State Historical Preservation Officer (SHPO) be undertaken to identify appropriate mitigation measures for the properties that will be adversely impacted if the preferred alternative is selected. EPA also requests that identified Environmental Justice communities be evaluated for opportunities to reduce cumulative environmental and human health burdens through project implementation.

ERP No. D-NRC-H06005-NE Rating EC2, GENERIC EIS—Fort Calhoun Station, Unit 1, Renewal of the Operating Licenses (OLs) for an Additional 20 Years, Supplement 12 (NUREG-1437)Omaha Public Power District, Washington County, NE.

Summary: EPA expressed environmental concerns with the proposed re-licensing on the basis of the long (10 year) lead time before the current license expires. EPA recommended that the NRC improve cumulative effects information on current and future heat contributors to the Missouri River, and that NRC detail possible cooling strategies if faced with limited Missouri River assimilative capacity (heat) in the future.

ERP No. DS-AFS-L65300-ID Rating LO, Goose Creek Watershed Project, Reviewing and Updating Information on the Pileated Woodpecker and Soil Impacts, Payette National Forest, New Meadows Ranger District, Adams County, ID.

Summary: EPA has no concerns with the proposed action; however, EPA suggests including information on the potential cumulative effects of 5 other proposed timber sale projects on pileated woodpecker habitat within the National Forest.

ERP No. DS-AFS-L65325-ID Rating LO, Sloan-Kennally Timber Sale Project, Reviewing and Updating Information on the Pileated Woodpecker and Soil Impacts, Payette National Forest, McCall Ranger District, Adams County, ID.

Summary: EPA has no significant concerns with the proposed action; however, EPA suggests including information on the potential cumulative effects of 5 other proposed timber sale projects on pileated woodpecker habitat within the National Forest.

ERP No. DS-AFS-L65336-ID Rating LO, Brown Creek Timber Sale Project, Reviewing and Updating Information on the Pileated Woodpecker and Soil Impacts, Payette National Forest, New Meadow Ranger District, Adams County, ID.

Summary: EPA expressed no concerns with the proposed action; however, EPA suggests including information on the potential cumulative effects of 5 other proposed projects on pileated woodpecker habitat within the National Forest.

ERP No. DS-AFS-L65346-ID Rating LO, Middle Fork Weiser River Watershed Project, Reviewing and Updating Information on the Pileated Woodpecker and Soil Impacts, Payette National Forest, Council Ranger District, Adams County, ID.

Summary: EPA has no concerns with the proposed action; however, EPA suggests including information on the potential cumulative effects of 5 other proposed timber sale projects on pileated woodpecker habitat within the National Forest.

ERP No. DS-AFS-L65379-ID Rating LO, Little Weiser Landscape Vegetation Management Project, Reviewing and Updating Information on the Pileated Woodpecker and Soil Impacts, Payette National Forest, Adams County, ID.

Summary: EPA has no concerns with the proposed action; however, EPA suggests including information on the potential cumulative effects of 5 other proposed timber sale projects on pileated woodpecker habitat within the National Forest.

Final EISs

ERP No. F-BLM-G65083-NM Farmington Resource Management Plan, Implementation, Managing Public Lands within the Farmington Field Office (FF0) Boundaries and Federal Oil and Gas Resources within the New Mexico Portion of San Juan Basin, San Juan, McKinley, Rio Arriba and Sandoval Counties, NM.

Summary: EPA's comments on air quality impacts and mitigation have been addressed with additional air quality analysis and assurance that the NMAQB air permitting program will minimize air quality impacts. The Four Corners Ozone Task Force will offer future recommendations to BLM for consideration in the plan.

ERP No. F-FHW-E40788-AL Memphis to Atlanta Corridor Construction, I-65 in North Central Alabama eastward to the Georgia State Line, U.S. Army COE Section 404, U.S. Coast Guard and NPDES Permits, Limestone, Morgan, Madison, Jackson, Marshall, DeKalb and Cherokee Counties, AL.

Summary: EPA continues to have environmental concerns with the proposed project regarding impacts to wetlands and aquatic resources, storm water, noise, relocations and other natural habitat impacts. EPA recommends that tangible minimization and/or mitigation commitments for these impacts be developed and implemented.

ERP No. F-FHW-E40789-MS East Harrison County Connector Construction, I-10 to U.S. 90, Funding, U.S. Army COE and US Coast Guard Permits Issuance and Possible Transfer of Federal Lands, Harrison County, MS.

Summary: EPA continues to have environmental concerns with impacts arising from the proposed project relating to noise, floodplains, wetlands and historic properties. EPA wishes to reiterate the importance of MDOT and FHWA's commitment to provide wetland and noise mitigation for impacts attributable to the proposed project.

ERP No. F-FHW-H40170-MO US 50 East-Central Corridor Highway Improvements, US 50 to US 63 east of Jefferson City, Funding and Major Transportation Investment Analysis, Osage, Gasconade and Franklin Counties, MO.

Summary: The FEIS adequately supplements information needs and addresses the concerns that EPA had expressed in the review of the DEIS for this project. Consequently, EPA has no objections.

ERP No. F-FHW-K40245-CA CA-78/111 Brawley Bypass, Construction of an Expressway from CA-86 to CA-111, City of Brawley, Funding, Imperial County, CA.

Summary: EPA has continuing environmental concerns about air quality impacts arising from the proposed project, particularly regarding PM-10. EPA supports the commitment to offset the loss of prime farmland from the project by purchasing conservation easements. EPA requests that unresolved air quality issues and mitigation for farmland impacts be addressed in the Record of Decision.

ERP No. F-NPS-D61054-VA Jamestown Project, Improvements at the Jamestown Unit of Colonial National Park and the Jamestown National Historic Site, Implementation, James City County, VA.

Summary: EPA expressed lack of objections with the proposed action.

ERP No. F-SFW-G91002-NM Rio Grande Silvery Minnow (Hybognathus amarus) Critical Habitat Designation, Implementation, Bernalillo, Sandoval, Socorro and Valencia Counties, NM.

Summary: EPA has no objection to the selection of the preferred plan of action. EPA's comments on the Draft EIS were addressed.

Dated: May 13, 2003.
Joseph C. Montgomery,
Director, NEPA Compliance Division, Office of Federal Activities.

[FR Doc. 03-12350 Filed 5-15-03; 8:45 am]

BILLING CODE 6560-50-P